DEPARTMENT OF AGRICULTURE

Rural Utilities Service

Great River Energy, Notice of Availability of an Environmental Assessment

AGENCY: Rural Utilities Service, USDA.

ACTION: Notice of availability of an environmental assessment.

SUMMARY: Notice is hereby given that the Rural Utilities Service (RUS) is issuing an environmental assessment (EA) in connection with possible impacts related to the construction and operation of a natural gas-fired simple cycle, combustion turbine power generation facility in Cambridge Township in Isanti County, Minnesota. The electrical output from the facility is expected to range from 170 megawatts (MW) to 190 MW depending upon operating conditions.

FOR FURTHER INFORMATION CONTACT: Nurul Islam, Environmental Protection Specialist, RUS, Engineering and Environmental Staff, Stop 1571, 1400 Independence Avenue, SW., Washington, DC 20250-1571, telephone: (202) 720-1414, FAX: (202) 720-0820; or e-mail: nurul.islam@wdc.usda.gov.; or Mark Strohfus, Environmental Project Leader, GRE, 17845 East Highway 10, P.O. Box 800, Elk River, Minnesota 55330-0800, telephone (763) 241-2491, FAX: (763) 241-6033, e-mail: MStrohfus@grenergy.com.

SUPPLEMENTARY INFORMATION: GRE is proposing to construct a simple-cycle combustion turbine generation plant in Cambridge Township in Isanti County, Minnesota. Total electrical output is expected to range from 170 MW to 190 MW depending on operating conditions. An alternative site for the plant is also being proposed for the project. The alternative site location is at GRE's Elk River headquarters in Sherburne County, Minnesota. The Elk River site presently has a 40 MW facility fueled with refuse derived fuel and it would remain if the proposed plant were to be constructed at this alternative site. No additional land would be purchased if the plant were to be constructed at this location. Due to constraints on natural gas availability, a combustion turbine at the Elk River site would be equipped to fire fuel oil as a backup fuel. The generator would be connected to the Elk River Station. Construction of the project at the proposed Cambridge site would necessitate upgrading approximately 47 miles of existing 69-kilovolt (kV) transmission lines. Construction at the alternative Elk River site would necessitate upgrading approximately 27 miles of existing 69-kV transmission lines to allow the electricity from the new generator to be reliably delivered from the site. A fuel oil-fired combustion turbine rated at approximately 20 MW exists at the proposed Cambridge site and will remain in operation at the site after construction of the proposed combustion turbine. Additional land would be acquired to facilitate the proposed construction activities. The project at the Cambridge site would include upgrades to the existing substation at the Cambridge plant site. A 10-inch high pressure gas lateral pipeline approximately ½-mile long would be constructed to provide a natural gas fuel supply for the project.

GRE prepared an environmental analysis for RUS that describes the project and assesses the proposed projects environmental impacts. RUS has conducted an independent evaluation of the environmental analysis and believes that it accurately assesses the impacts of the proposed project. This environmental analysis will serve as RUS' environmental assessment (EA) of the project.

EA is available at GRE's Web site at http://www.greatriverenergy.com/. It is also available for public review at the RUS or GRE at the addresses provided in this notice or at the following locations:

Cambridge Public Library, 244 South Birch Street, Cambridge, Minnesota 55008, Tel: (763) 689-7390

Elk River Public Library, 413 Proctor Avenue, Elk River, Minnesota 55330, Tel: (763) 441-1641

Questions and comments should be sent to RUS at the address provided in this notice. RUS will accept questions and comments on the EA for 30 days from the date of publication of this notice.

Any final action by RUS related to the proposed project will be subject to, and contingent upon, compliance with all relevant Federal environmental laws and regulations and completion of environmental review procedures as prescribed by the 7 CFR part 1794, Environmental Policies and Procedures.

Dated: November 29, 2005.
Glendon D. Deal,
Director, Engineering and Environmental Staff, Rural Utilities Service.

[FR Doc. E5-7105 Filed 12-8-05; 8:45 am]

BILLING CODE 3410-15-P